DEPARTMENT OF JUSTICE

Federal Bureau of Prisons

Notice of Intent To Prepare a Draft Environmental Impact Statement (DEIS)

AGENCY: Federal Bureau of Prisons, Department of Justice.

ACTION: Notice of Intent to Prepare a Draft Environmental Impact Statement (DEIS).

SUMMARY: Notice of Intent to Prepare a Draft Environmental Impact Statement (DEIS) for development of a Federal correctional complex by the U.S. Department of Justice, Federal Bureau of Prisons. The area under consideration for correctional facility development includes sites in the Aliceville area in Alabama.

Background

The Federal Bureau of Prisons (BOP) is responsible for carrying out judgments of the federal courts whenever a period of confinement is ordered. The mission of the BOP is to protect society by confining offenders in the controlled environments of prisons and community-based facilities that are safe, humane, cost-efficient and appropriately secure, and that provide work and other self-improvement opportunities to assist offenders in becoming law-abiding citizens.

As of February 5, 2007 approximately 194,000 inmates are housed within the 114 federal correctional facilities that have levels of security ranging from minimum to maximum. At the present time, the federal inmate population exceeds the combined rated capacities of the 114 federal correctional facilities. An additional 18,746 federal inmates are housed within privately-managed secure facilities and approximately 11,109 inmates are housed in other facilities for a total federal inmate population of approximately 194,000.

The continuing inmate population is due in part to Federal court sentencing guidelines which are resulting in longer terms of confinement for serious crimes. The increase in the number of immigration offenders and the effort to combat organized crime and drug trafficking are also contributing to the increase. Measures being undertaken to manage the growth of the federal inmate population include construction of new institutions, acquisition and adaption of facilities originally intended for other purposes, expansion and improvement of existing correctional facilities, and expanded use of contract beds. Adding capacity through these various means allows the BOP to work towards the long-term goal of managing our inmate population growth.

In the face of the continuing increase in the federal prison population, one way the BOP has extended its capacity is through construction of new facilities. As part of this effort, the BOP has a facilities planning program featuring the identification and evaluation of sites for new facilities. The BOP routinely identifies prospective sites that may be appropriate for development of new federal correctional facilities. Locations of new federal correctional facilities are determined by the need for such facilities in various parts of the country and the resources available to meet that need.

The BOP routinely screens and evaluates private and public properties located throughout the nation for possible use and development. Over the past decade, the BOP has examined prospective sites for new correctional facilities development in Kentucky, New Hampshire, Virginia, Pennsylvania, West Virginia, North Carolina, South Carolina, Indiana among other locations around the country and has undertaken environmental impact studies in compliance with the National Environmental Policy Act (NEPA) of 1969, as amended.

Proposed Action

The BOP is facing increased bedspace shortages throughout the federal prison system. Over the past decade, a significant influx of inmates has entered the federal prison system with a large portion of this influx originating from the Southeast region.

In response, the BOP has committed significant resources to identifying and developing sites for new federal correctional facilities throughout this region, including construction of facilities in Coleman, Florida; Yazoo City, Mississippi; Marlboro County, South Carolina; Williamsburg County, South Carolina; and Pollock, Louisiana. Even with the development of these new and expanded facilities, projections show the federal inmate population continuing to increase, placing additional demands for bedspace within the Southeast Region.

In response, the BOP has undertaken preliminary investigations in an effort to identify prospective sites capable of accommodating federal correctional facilities and communities willing to host such facilities. Through this process, officials representing the Aliceville, Alabama, area identified potential locations for development of federal correctional institutions and offered several sites for BOP consideration. These potential sites were subjected to initial studies by the BOP and those considered suitable for correctional facility development will be evaluated further by the BOP in a DEIS that will analyze the potential impacts of facility construction and operation. The BOP is proposing to build and operate in the Southeast region a federal correctional complex which could ultimately consist of four institutions of varying security levels. However, immediate plans look toward construction of one of these institutions, a medium-security federal correctional institution with an adjoining satellite work camp.

The Process

In the process of evaluating the potential environmental impacts associated with federal correctional facility development and operation, many factors and features will be analyzed including, but not limited to: topography, geology, soils, hydrology, biological resources, cultural resources, hazardous materials, aesthetics, fiscal considerations, population/ employment/housing characteristics, community services and facilities, land uses, utility services, transportation systems, meteorological conditions, air quality, and noise.

Alternatives

In developing the DEIS, the No Action alternative, other actions considered and eliminated, and alternatives sites for the proposed medium-security federal correctional institution will be examined.

Three sites are currently identified as alternatives for federal correctional complex development. Site 1 is comprised of approximately 735 acres and is located approximately three miles northwest of Aliceville along Route 14. Site 2 is comprised of approximately 827 acres and is located approximately six miles south-southeast of Aliceville along Route 2. Site 3 is comprised of approximately 838 acres and is located approximately three miles south of Aliceville along Route 13. Additional sites may also be examined as sites become available through the scoping process and preparation of the Environmental Impact Statement.

Scoping Process

During the preparation of the DEIS, there will be opportunities for public involvement in order to determine the issues to be examined. A Public Scoping Meeting will be held at 7 p.m., Tuesday, March 6, 2007, at City Hall, Memorial Parkway East, Aliceville, Alabama. The meeting location, date, and time will be well-publicized and have been arranged to allow for the public as well as interested agencies and organizations to attend and formally express their views on the scope and significant issues to be studied as part of the DEIS process. The Scoping Meeting is being held to provide for timely public comments and understanding of federal plans and programs with possible environmental consequences as required by the National Environmental Policy Act of 1969, as amended, and the National Historic Preservation Act of 1966, as amended.

Availability of DEIS

Public notice will be given concerning the availability of the DEIS for public review and comment.

Contact

Questions concerning the proposed action and the DEIS may be directed to: Pamela J. Chandler, Chief, or Issac J. Gaston, Site Selection Specialist, Site Selection and Environmental Review Branch, U.S. Department of Justice—Federal Bureau of Prisons, 320 First Street, NW., Washington, DC 20534 Telephone: 202-514-6470 / Facsimile: 202-616-6024 / siteselection@bop.gov.

February 5, 2007.
Issac J. Gaston,
Site Selection and Environmental Review Branch, Federal Bureau of Prisons.

[FR Doc. E7-2143 Filed 2-8-07; 8:45 am]

BILLING CODE 4410-5-P